DEPARTMENT OF LABOR

Employment and Training Administration [SGA/DFA-PY-08-08]

Solicitation for Grant Applications (SGA)

AGENCY: Employment and Training Administration (ETA), Labor.

ACTION: Notice: Amendment to SGA/DFA-PY-08-08.

SUMMARY: The Employment and Training Administration published a document in the Federal Register on October 3, 2008, announcing the availability of funds and solicitation for grant applications (SGA) to fund Demonstration Projects. This notice is an amendment to the SGA and it amends the “Eligibility Information” and “Applications Review Process” sections.

FOR FURTHER INFORMATION CONTACT: B. Jai Johnson, Grant Officer, Division of Federal Assistance, at (202) 693-3296.

Supplementary Information Correction: In the Federal Register of October 3, in FR Doc. E8-23319. On page 57674, under the heading, “Part III. Eligibility Information” is amended to read “Eligible applicants include (in addition to those already established in the SGA) Workforce Investment Boards (WIB); and Federally Recognized Indian Tribes in partnership with Workforce Investment Boards. On page 57676, under the heading, “Part V. Applications Review Process” on page 57678 is amended to read under Criterion 5. Linkages to Key Partners (up to 15 Points), “The applicant must demonstrate that the proposed project will be implemented by an already existing strategic partnership.”

Effective Date: This notice is effective October 27, 2008.

Signed at Washington, DC, this 21st of October 2008.
James W. Stockton,
Grant Officer.

[FR Doc. E8-25475 Filed 10-24-08; 8:45 am]

BILLING CODE 4510-FT-P